DEPARTMENT OF STATE

[Public Notice 8964]

Third International Conference on Financing for Development

AGENCY: Department of State.

ACTION: Request for comments.

SUMMARY: The Department of State invites the public, including non-governmental and civil society organizations, think tanks, educational institutions, private sector companies, and other interested persons, to submit written input on U.S. goals and objectives for the third International Conference on Financing for Development.

DATES: Written comments are due by January 9, 2015.

FOR FURTHER INFORMATION CONTACT: Benjamin Thomson, Financial Economist, Office of Development Finance, Bureau of Economic and Business Affairs, Department of State at 202-647-9462. Comments should be emailed to Benjamin Thomson (Post2015_Financing@State.gov).

SUPPLEMENTARY INFORMATION: Pursuant to UN General Assembly resolution 68/279, the third International Conference on Financing for Development will be held on 13-16 July 2015, in Addis Ababa, Ethiopia (http://www.un.org/ga/search/view_doc.asp?symbol=A/RES/68/279&Lang=E). Many of the preparatory discussions for the 2015 Financing for Development Conference have cited the potential to do more to maximize the development impact of existing development flows; leverage the considerable resources, knowledge, and expertise of a host of new partners; and truly revitalize a global partnership around proven ingredients of successful implementation. Some specific elements being discussed include data about total financial flows to developing countries, innovation in the use of official development assistance (especially to leverage other flows); reduction in the cost of remittances; tapping domestic resources in developing countries through enhanced capacity for tax collection, broadening the tax base and boosting savings, bolstering private investment in and trade with developing countries, curtailing illicit financial flows and fighting corruption to ensure the efficient and effective use of resources and domestic long-term financing.

The Department of State is seeking public comments on these concerns and all other elements related to United States interests in the Financing for Development Conference negotiations.

Dated: December 4, 2014.
Ambassador Lisa J. Kubiske,
Deputy Assistant Secretary, Office of International Finance and Development, Bureau of Economic and Business Affairs, Department of State.

[FR Doc. 2014-28970 Filed 12-9-14; 8:45 am]

BILLING CODE 4710-07-P